DEPARTMENT OF THE INTERIOR

Bureau of Land Management

DEPARTMENT OF AGRICULTURE

Forest Service

[CA-668-03-1610-DQ]

Notice of Availability of Santa Rosa and San Jacinto Mountains National Monument Proposed Management Plan and Final Environmental Impact Statement

AGENCY: Bureau of Land Management.

ACTION: Notice of availability of the Santa Rosa and San Jacinto proposed Management Plan and Final Environmental Impact Statement.

SUMMARY: In compliance with Bureau of Land Management (BLM) planning regulations, title 43 Code of Federal Regulations (CFR) part 1610.2(f)(4) and title 40 CFR part 1500, the BLM and Forest Service hereby gives notice that the proposed Management Plan/Final Environmental Impact Statement (FEIS) has been prepared for the Santa Rosa and San Jacinto Mountains National Monument. This Management Plan is a cooperative effort between the Department of the Interior, BLM, and the Department of Agriculture, Forest Service. The 272,000 acre National Monument encompasses 86,400 acres of Bureau of Land Management lands and 64,400 acres of Forest Service lands in the Coachella Valley and surrounding mountains. Additional land managing entities within the National Monument include the Agua Caliente Band of Cahuilla Indians, the California Department of Parks and Recreation, the California Department of Fish and Game, Riverside County, local jurisdictions, and private landowners. The management plan provides direction for coordination between the BLM, Forest Service, and various partners and outlines proposed strategies for protecting the values that the National Monument was established to protect.

DATES: BLM Planning Regulations (43 CFR 1610.5-2) state that any person who participated in the planning process, and has an interest that may be adversely affected, may protest. The protest must be filed within 30 days of the date that the Environmental Protection Agency publishes this notice in the Federal Register. Instructions for filing of protests are described in the preface of the Santa Rosa and San Jacinto Mountains National Monument Management Plan/FEIS and are included in the Supplementary Information section of this notice.

FOR FURTHER INFORMATION CONTACT: Greg Hill, Planning and Environmental Coordinator, Santa Rosa and San Jacinto Mountains National Monument Management Plan, Palm Springs-South Coast Field Office, P.O. Box 581260, 690 W. Garnet Avenue, North Palm Springs, CA 92258. Phone Number: 760-251-4800.

SUPPLEMENTARY INFORMATION: The Santa Rosa and San Jacinto Mountains National Monument was established by Public Law 106-351 and will be cooperatively managed by the Bureau of Land Management (BLM) and the U.S. Forest Service (USFS). The Santa Rosa and San Jacinto Mountains National Monument Act of 2000 affects only Federal lands and Federal interests located within the established boundaries. The BLM and the Forest Service will jointly manage Federal lands in the National Monument in coordination with the Agua Caliente Band of Cahuilla Indians, other Federal agencies, State agencies, and local governments.

Copies of the Santa Rosa and San Jacinto Mountains National Monument Management Plan/FEIS have been sent to affected Federal, State, and Local Government agencies, interested parties and those who requested a copy of the Draft Management Plan/Draft EIS. Copies of the proposed Plan/Final EIS are available for public inspection at the BLM Palm Springs-South Coast Field Office, P.O Box 581260, 690 W. Garnet Avenue, North Palm Springs, CA 92258. Interested persons may also review the Proposed Management Plan/FEIS on the Internet at http://www.ca.blm.gov/palmsprings. Electronic (on CD-ROM) and paper copies may also be obtained by contacting Greg Hill at the aforementioned addresses and phone number.

Comments on the Draft Management Plan/EIS received from the public and internal BLM and Forest Service review comments were incorporated into the proposed plan. Public comments resulted in the addition of clarifying text, but did not significantly change proposed land use decisions. The range of alternatives in this plan does not reevaluate planning decisions included in the BLM California Desert Conservation Area Plan (1980 as amended) or included in the Forest Service San Bernardino National Forest Land and Resource Management Plan (1989 as amended). Records of Decision will be prepared by the BLM and FS for the Santa Rosa and San Jacinto Mountains National Monument Management Plan in accordance with planning regulations at Title 43 CFR 1610 and NEPA. No decisions in the National Monument Management Plan are proposed amendments to the San Bernardino National Forest Land and Resource Management Plan (1989). Those decisions within the National Monument Management Plan that are proposed amendments to the California Desert Conservation Area Plan are subject to protest according to BLM regulations.

Instructions for filing a protest with the Director of the BLM regarding the Proposed Plan/Final EIS may be found at 43 CFR 1610.5. A protest may only raise those issues which were submitted for the record during the planning process. New issues raised in the protest period should be directed to Greg Hill, Palm Springs-South Coast Field Office, (address provided previously in this notice) for consideration in plan implementation, as potential plan amendments, or as otherwise appropriate. Protests must be in writing, and to be considered “timely,” the protest must be postmarked no later than the last day of the 30-day protest period. Also, although not a requirement, it is recommended that the protest be sent by certified mail, return receipt requested. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens_Williams@blm.gov. Please direct the follow-up letter to the appropriate address provided below.

The protest must contain:

a. The name, mailing address, telephone number, and interest of the person filing the protest.

b. A statement of the part or parts of the management plan and the issue or issues being protested. To the extent possible, this should be done by reference to specific pages, paragraphs, sections, tables, maps, etc., included in the proposed management plan;

c. A copy of all documents addressing the issue(s) that the protesting party submitted during the planning process or a statement of the date they were discussed for the record.

d. A concise statement explaining why the protestor believes the State Director's decision is wrong. This is a critical part of the protest. Take care to document all relevant facts. As much as possible, reference or cite the planning documents, environmental analysis documents, and/or available planning records (i.e., meeting minutes or summaries, correspondence, etc.).

A protest which merely expresses disagreement with proposed decision without supporting data will not provide additional basis for the Director's review of the decision. Please note that comments, including names and street addresses of respondents, are available for public review and/or release under the Freedom of Information Act (FOIA). Individual respondents may request confidentiality. Respondents who wish to withhold name and/or street address from public review or from disclosure under FOIA, must state this prominently at the beginning of the written comment. Such requests will be honored to the extent allowed by law. All submissions from organizations or businesses, and from individuals identifying themselves as representatives or officials or organizations or businesses, will be made available for public inspection in their entirety.

All protests must be in writing and mailed to the following address:

Regular Mail: Director (210), Attention: Brenda Williams, P.O. Box 66538, Washington, DC 20035.

Overnight Mail: Director (210), Attention: Brenda Williams, 1620 L Street, NW., Suite 1075, Washington, DC 20036.

The BLM Director will promptly render a decision on the protest. The decision will be in writing and will be sent to the protesting party by certified mail, return receipt requested. The decision of the BLM Director shall be the final decision of the Department of the Interior.

Dated: August 22, 2003.
Tracy Liegler,
Acting Santa Rosa and San Jacinto Mountains, National Monument Manager.
Dated: August 20, 2003.
Laurie Rosenthal,
District Ranger, San Jacinto Ranger District, San Bernardino National Forest.

[FR Doc. 03-26816 Filed 10-30-03; 8:45 am]

BILLING CODE 4310-40-P